DEPARTMENT OF TRANSPORTATION

Federal Aviation Administration

14 CFR Part 39

[Docket No. FAA-2017-1250; Product Identifier 2017-NM-174-AD; Amendment 39-19159; AD 2018-02-06]

RIN 2120-AA64

Airworthiness Directives; Dassault Aviation Airplanes

AGENCY: Federal Aviation Administration (FAA), DOT.

ACTION: Final rule; request for comments.

SUMMARY: We are adopting a new airworthiness directive (AD) for certain Dassault Aviation Model FALCON 7X, FALCON 2000EX, and FALCON 900EX airplanes. This AD requires revising the airplane flight manual (AFM) and minimum equipment list (MEL) to incorporate new limitations. This AD also provides an optional terminating action that removes the AFM and MEL limitations. This AD was prompted by a report indicating that, during approach, an airplane had an unexpected change of barometric settings on both the pilot and co-pilot sides, which also impacted certain display and navigational systems. We are issuing this AD to address the unsafe condition on these products.

DATES: This AD becomes effective February 5, 2018.

The Director of the Federal Register approved the incorporation by reference of certain publications listed in this AD as of February 5, 2018.

We must receive comments on this AD by March 5, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Dassault Falcon Jet Corporation, Teterboro Airport, P.O. Box 2000, South Hackensack, NJ 07606; telephone 201-440-6700; internet http://www.dassaultfalcon.com. You may view this referenced service information at the FAA, Transport Standards Branch, 1601 Lind Avenue SW, Renton, WA. For information on the availability of this material at the FAA, call 425-227-1221. It is also available on the internet at http://www.regulations.gov by searching for and locating Docket No. FAA-2017-1250.

Examining the AD Docket

You may examine the AD docket on the internet at http://www.regulations.gov by searching for and locating Docket No. FAA-2017-1250; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Section, Transport Standards Branch, FAA, 1601 Lind Avenue SW, Renton, WA 98057-3356; telephone 425-227-1137; fax 425-227-1149.

SUPPLEMENTARY INFORMATION:

Discussion

The European Aviation Safety Agency (EASA), which is the Technical Agent for the Member States of the European Union, has issued EASA Airworthiness Directive 2017-0240, dated December 5, 2017 (referred to after this as the Mandatory Continuing Airworthiness Information, or “the MCAI”), to correct an unsafe condition for certain Dassault Aviation Model FALCON 7X, FALCON 2000EX, and FALCON 900EX airplanes. The MCAI states:

An occurrence was reported where, during approach, a Dassault 7X aeroplane experienced an unexpected change of barometric setting values, on both pilot and co-pilot sides, also having some other effects on display and navigation systems. Investigation showed that a temporary defect of a Cursor Control Device (CCD) can release erroneous but apparently valid data to the avionics. Depending on the resulting flight deck effects, crew members may be unaware of any incorrect barometric setting values.

This condition, if not corrected, could lead to a wrong flight altitude, possibly affecting continued safe flight and landing.

To address this potential unsafe condition [Dassault Aviation] DA is developing corrective actions through an upgrade of “EASy” Avionics software. Pending the availability in service of these upgrades, DA issued an Aircraft Flight Manual (AFM) amendment and a Master Minimum Equipment List (MMEL) amendment, related to dispatch with a Traffic Collision Avoidance System (TCAS) or Enhanced Ground Proximity Warning System (EGPWS).

For the reasons described above, this [EASA] AD requires amendment of the applicable AFM and MMEL [and includes an optional terminating action].

This [EASA] AD is considered an interim measure and further AD action may follow.

Although the MCAI requires updating the MMEL, this AD requires revising the MEL. The MMEL is a master list of the minimum equipment with which the airplane can operate under given circumstances. A MEL is derived from the MMEL and is tailored for individual operators. The optional terminating action is updating the aircraft avionics software to the latest EASy II version. You may examine the MCAI on the internet at http://www.regulations.gov by searching for and locating Docket No. FAA-2017-1250.

Related Service Information Under 1 CFR Part 51

Dassault Aviation has issued the following service information.

The following service information describes procedures for updating the aircraft avionics software to the latest EASy II version. These documents are distinct since they apply to different airplane models in different configurations.

• Dassault Service Bulletin F7X-322, dated October 24, 2017.

• Dassault Service Bulletin F900EX-422, dated September 22, 2017.

• Dassault Service Bulletin F900EX-423, dated December 9, 2016.

• Dassault Service Bulletin F2000EX-322, Revision 1, dated June 21, 2017.

• Dassault Service Bulletin F2000EX-323, dated July 13, 2017.

The following service information describes MMEL dispatch restrictions for TCAS and EGPWS. These documents are distinct since they apply to different airplane models.

• Dassault Falcon 7X/8X, MMEL-CP0205-PUB-F7X, “TCAS & EGPWS limitations without CCD correction,” Revision 1, dated September 1, 2016, to the Dispatch Assistance CD-ROM Pub. 781.

• Dassault Falcon 900EX EASy, MMEL-CP0205-PUB-F900EX EASy, “TCAS & EGPWS limitations without CCD correction,” Revision 1, dated September 1, 2016, to the Dispatch Assistance CD-ROM Pub. 617.

• Dassault Falcon 2000EX EASy, MMEL-CP0205-PUB-F2000EX EASy, “TCAS & EGWPS limitation without CCD correction,” Revision 1, dated September 1, 2016, to the Dispatch Assistance CD-ROM Pub. 682.

This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because unexpected changes to barometric settings could lead to an incorrect flight altitude and ultimately adversely affect the airplane's continued safe flight and landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2017-1250; Product Identifier 2017-NM-174-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 320 airplanes of U.S. registry. We estimate the following costs to comply with this AD:

Estimated Costs
Action | Labor cost | Parts cost | Cost per product | Cost on U.S. operators
Updating the AFM/MEL | 2 work-hours × $85 per hour = $170 | $0 | $170 | $54,400

Estimated Costs for Optional Actions
Action | Labor cost | Parts cost | Cost per product
Software update | 8 work-hours × $85 per hour = $680 | $0 | $680

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-02-06 Dassault Aviation: Amendment 39-19159; Docket No. FAA-2017-1250; Product Identifier 2017-NM-174-AD.

(a) Effective Date

This AD becomes effective February 5, 2018.

(b) Affected ADs

None.

(c) Applicability

This AD applies to the Dassault Aviation airplanes identified in paragraphs (c)(1), (c)(2), and (c)(3) of this AD, certificated in any category.

(1) Model FALCON 7X airplanes, all serial numbers, except those that have embodied Dassault modification M1254 or M1705 in production, or Dassault Service Bulletin F7X-322 in service.

(2) Model FALCON 2000EX airplanes, all serial numbers that have embodied Dassault modification M1691 in production, except those that have embodied Dassault modification M3849 in production, or Dassault Service Bulletin F2000EX-322 or Dassault Service Bulletin F2000EX-323 in service.

(3) Model FALCON 900EX airplanes, all serial numbers that have embodied Dassault modification M3083 in production, except those that have embodied Dassault modification M6002 in production, or Dassault Service Bulletin F900EX-422 or Dassault Service Bulletin F900EX-423 in service.

(d) Subject

Air Transport Association (ATA) of America Code 34, Navigation.

(e) Reason

This AD was prompted by a report indicating that, during approach, an airplane had an unexpected change of barometric settings on both the pilot and co-pilot sides, which also impacted certain display and navigational systems. We are issuing this AD to address unexpected changes to barometric settings, which could lead to an incorrect flight altitude and could ultimately adversely affect the airplane's continued safe flight and landing.

(f) Compliance

Comply with this AD within the compliance times specified, unless already done.

(g) Airplane Flight Manual (AFM) Revision

Within 10 flight cycles after the effective date of this AD, revise the Limitations Section of the Airplane Flight Manual (AFM) to include the statement specified in figure 1 to paragraph (g) of this AD. When a statement identical to that in figure 1 to paragraph (g) of this AD has been included in the limitations section of the general revisions of the AFM, the general revisions may be inserted into the AFM.

(h) Minimum Equipment List (MEL) Revision

Within 10 flight cycles after the effective date of this AD, revise the operator's MEL by incorporating the applicable information specified in figure 2 to paragraph (h) of this AD as a temporary restriction when dispatching the airplane with an inoperative traffic alert and collision avoidance system (TCAS) or enhanced ground proximity warning system (EGPWS). The MEL can be revised by inserting a copy of the applicable MMEL-CP page specified in figure 2 to paragraph (h) of this AD into the MEL. After revising the applicable MEL, dispatch of that airplane with an inoperative TCAS or EGWPS is allowed, provided that the applicable MEL for that airplane has been revised, as specified in the applicable dispatch restrictions specified in figure 2 to paragraph (h) of this AD.

(i) Optional Terminating Action

Modification of an airplane by updating the aircraft avionics software to the latest EASy II version in accordance with the applicable service information specified in figure 3 to paragraph (i) of this AD terminates the requirements of paragraphs (g) and (h) of this AD for the modified airplane only.

(j) Credit for Previous Actions

This paragraph provides credit for the actions specified in paragraph (i) of this AD, if those actions were performed before the effective date of this AD using Dassault Service Bulletin F2000EX-322, dated October 17, 2016, for the airplanes identified therein.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(l) Related Information

(1) Refer to Mandatory Continuing Airworthiness Information (MCAI) EASA Airworthiness Directive 2017-0240, dated December 5, 2017, for related information. You may examine the MCAI on the internet at http://www.regulations.gov by searching for and locating Docket No. FAA-2017-1250.

(2) For more information about this AD, contact Tom Rodriguez, Aerospace Engineer, International Section, Transport Standards Branch, FAA, 1601 Lind Avenue SW, Renton, WA 98057-3356; telephone 425-227-1137; fax 425-227-1149.

(3) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Falcon 7X/8X, MMEL-CP0205-PUB-F7X, “TCAS & EGPWS limitations without CCD correction,” Revision 1, dated September 1, 2016, to the Dispatch Assistance CD-ROM Pub. 781.

(ii) Dassault Falcon 2000EX EASy, MMEL-CP0205-PUB-F2000EX EASy, “TCAS & EGWPS limitation without CCD correction,” Revision 1, dated September 1, 2016, to the Dispatch Assistance CD-ROM Pub. 682.

(iii) Dassault Falcon 900EX EASy, MMEL-CP0205-PUB-F900EX EASy, “TCAS & EGPWS limitations without CCD correction,” Revision 1, dated September 1, 2016, to the Dispatch Assistance CD-ROM Pub. 617.

(iv) Dassault Service Bulletin F7X-322, dated October 24, 2017.

(v) Dassault Service Bulletin F2000EX-322, Revision 1, dated June 21, 2017.

(vi) Dassault Service Bulletin F2000EX-323, dated July 13, 2017.

(vii) Dassault Service Bulletin F900EX-422, dated September 22, 2017.

(viii) Dassault Service Bulletin F900EX-423, dated December 9, 2016.

(3) For service information identified in this AD, contact Dassault Falcon Jet Corporation, Teterboro Airport, P.O. Box 2000, South Hackensack, NJ 07606; telephone 201-440-6700; internet http://www.dassaultfalcon.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 5, 2018.
Michael Kaszycki,
Acting Director, System Oversight Division, Aircraft Certification Service.

[FR Doc. 2018-00657 Filed 1-18-18; 8:45 am]

BILLING CODE 4910-13-P